DEPARTMENT OF ENERGY

Federal Energy Regulatory Commission

[Docket No. EC06-53-000]

El Paso Marketing, LP., Notice of Filing

December 30, 2005.

Take notice that on December 23, 2005, El Paso Marketing, L.P. (EPM) filed with the Federal Energy Regulatory Commission an application pursuant to section 203 of the Federal Power Act for authorization of a disposition of jurisdictional facilities whereby El Paso Marketing will transfer all of its ownership interests in certain power sale contracts to Morgan Stanley Capital Group Inc. Applicant requests confidential treatment of Exhibit I, pursuant to 18 CFR 388.112 of the Commission's regulations.

Any person desiring to be heard or to protest such filing should file a motion to intervene or protest with the Federal Energy Regulatory Commission, 888 First Street, NE., Washington, DC 20426, in accordance with Rules 211 and 214 of the Commission's Rules of Practice and Procedure (18 CFR 385.211 and 385.214). Protests will be considered by the Commission to determine the appropriate action to be taken, but will not serve to make protestants parties to the proceedings. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll-free). For TTY, call (202) 502-8659.

Comment Date: 5 p.m. Eastern Time on January 13, 2006.

Magalie R. Salas,
Secretary.

[FR Doc. E6-180 Filed 1-11-06; 8:45 am]

BILLING CODE 6717-01-P